DEPARTMENT OF VETERANS AFFAIRS

Advisory Committee on Minority Veterans, Notice of Meeting

The Department of Veterans Affairs (VA) gives notice under the Federal Advisory Committee Act, 5 U.S.C. Ch.10, that the Advisory Committee on Minority Veterans will meet virtually on January 14, 2026. The meeting sessions will begin and end as follows:

Date | Time | Location | Open session
January 14, 2026 | 10:30 a.m.-5:15 p.m. Eastern Standard Time | Join the meeting now Meeting ID: 257 160 302 901 48. | Yes.
|  | Passcode: 7Xz6ow7e. Dial in by phone: +1 872-701-0185,868874843#
|  | Phone conference ID: 868 874 843#

This meeting is open to the public.

The Committee on Minority Veterans advises the Secretary of Veterans Affairs with respect to the administration of benefits by the Department for Veterans who are minority group members, by reviewing reports and studies on compensation, health care, rehabilitation, outreach, and other benefits and services administered by the Department.

On January 14, 2026, the Committee will receive briefings and updates from the Office of Health Equity, Veterans Benefits Administration, National Cemetery Administration, Veterans Experience Office, Office of Rural Health, and Office of Survivor Assistance.

The Committee will receive public comments on January 14, from 4:45 p.m. to 5:15 p.m. The comment period may end sooner if no comments are presented or they are exhausted before the end time. Individuals who speak are invited to submit a 1-2-page summary of their comments at the time of the meeting for inclusion in the official meeting record. Members of the public may also submit written statements for the Committee's review to Mr. Dwayne E. Campbell, Department of Veterans Affairs, Center for Minority Veterans (00M), 810 Vermont Avenue NW, Washington, DC 20420, or email at Dwayne.Campbell3@va.gov. Any member of the public seeking additional information should contact Mr. Campbell or Mr. Ronald Sagudan at (202) 461-6191, or fax at (202) 273-7092.

Dated: December 16, 2025.
Jelessa M. Burney,
Federal Advisory Committee Management Officer.

[FR Doc. 2025-23269 Filed 12-17-25; 8:45 am]

BILLING CODE 8320-01-P